Title 3—

The President

Proclamation 8564 of September 17, 2010

National Employer Support of the Guard and Reserve Week, 2010

By the President of the United States of America

A Proclamation

Since our Nation’s founding over 200 years ago, patriotic Americans have answered the call of duty when our country has needed it most. As family members, employees, and leaders in their communities, members of the National Guard and Reserve give of themselves at home and abroad to preserve the American way of life. These dedicated citizens leave the comfort of their civilian lives to wear the uniform of the United States, protect our freedoms around the world, and serve within our borders during times of peace as well as turmoil. As we celebrate National Employer Support of the Guard and Reserve Week, we honor those who serve in the National Guard and Reserve, and we give thanks to their employers, whose support and encouragement is critical to the strength of our Armed Forces.

Making up nearly half of our military force, the men and women in the National Guard and Reserve play a vital role in our national defense. Throughout the year, they train and prepare for new challenges faced in missions at home and across the globe. Whether providing assistance in response to natural disasters and emergencies, helping secure our borders to protect our homeland, or fighting on the front lines to defend our freedom, these gallant service members are willing to pay the ultimate sacrifice in the service of others. Their dedication commands the admiration of us all as they balance the demands of civilian and military life.

During this week, we pay special tribute to the employers of our Guardsmen and Reservists, whose support and flexibility bolster the contributions of these brave men and women. Through accommodating personnel policies that encourage National Guard and Reserve participation, and by bearing financial and organizational responsibilities, these employers ensure that our troops are mission-ready when they are activated, and that their families will have the support they need before and after their loved ones’ mobilization.

Our Nation has always relied upon the service of citizen-soldiers to protect our lives and liberties. During National Employer Support of the Guard and Reserve Week, we recognize both the exceptional spirit of service that characterizes these individuals, and their employers’ commitment to maintaining the safety and security of the United States by caring for those who defend it.

NOW, THEREFORE, I, BARACK OBAMA, President of the United States of America, by virtue of the authority vested in me by the Constitution and the laws of the United States, do hereby proclaim September 19 through September 25, 2010, as National Employer Support of the Guard and Reserve Week. I call upon all Americans to join me in expressing our heartfelt thanks to the members of the National Guard and Reserve and their civilian employers. I also call on State and local officials, private organizations, and all military commanders, to observe this week with appropriate ceremonies and activities.

IN WITNESS WHEREOF, I have hereunto set my hand this seventeenth day of September, in the year of our Lord two thousand ten, and of the Independence of the United States of America the two hundred and thirty-fifth.

[FR Doc. 2010-24095

Filed 9-22-10; 11:15 am]

Billing code 3195-W0-P